DEPARTMENT OF COMMERCE

National Oceanic and Atmospheric Administration

50 CFR Part 648

[Docket No. 170113076-7463-01]

RIN 0648-BG60

Fisheries of the Northeastern United States; Regulatory Omnibus Framework Adjustment To Modify Reporting Requirements for Electronic Vessel Trip Reports by Federally Permitted Party and Charter Vessel Operators in the Mid-Atlantic Region

AGENCY: National Marine Fisheries Service (NMFS), National Oceanic and Atmospheric Administration (NOAA), Commerce.

ACTION: Proposed rule, request for comments.

SUMMARY: The Omnibus Electronic Vessel Trip Report Framework proposes management measures to increase the timeliness, accuracy, and quality of fisheries data submitted to NMFS while also reducing the burden on the charter and party fishing fleets. The electronic vessel trip report Framework would implement a requirement for charter and party vessels that hold a permit to fish for Atlantic bluefish, black sea bass, scup, summer flounder, tilefish, squid, Atlantic mackerel, and/or butterfish, while on a trip carrying passengers for hire, to submit required VTRs by electronic means. These proposed measures are intended to improve the timeliness and accuracy of charter and party vessel trip reporting.

DATES: Public comments must be received by June 23, 2017.

ADDRESSES: Copies of supporting documents used by the Mid-Atlantic Fishery Management Council, including the Proposed Framework Adjustment with Regulatory Impact Review (RIR) is available from: Dr. Christopher M. Moore, Executive Director, Mid-Atlantic Fishery Management Council, 800 North State Street, Suite 201, Dover, DE 19901, telephone (302) 674-2331. The Proposed Framework/RIR is also accessible via the Internet at http://www.greateratlantic.fisheries.noaa.gov.

You may submit comments, identified by NOAA-NMFS-2017-0043, by either of the following methods:

—Electronic Submission: Submit all electronic public comments via the Federal e-Rulemaking Portal. Go to www.regulations.gov/#!docketDetail;D=NOAA-NMFS-2017-0043, click the “Comment Now!” icon, complete the required fields, and enter or attach your comments.

—Mail: Submit written comments to NMFS, Greater Atlantic Regional Office, 55 Great Republic Drive, Gloucester, MA 01930. Mark the outside of the envelope “Comments on Omnibus eVTR Framework.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Written comments regarding the burden-hour estimates or other aspects of the collection-of-information requirements contained in this proposed rule may be submitted to the Greater Atlantic Regional Fisheries Office and by email to OIRA_Submission@omb.eop.gov or fax to (202) 395-5806.

FOR FURTHER INFORMATION CONTACT: Daniel Luers, Fishery Management Specialist, (978) 282-8457, fax (978) 281-9135.

SUPPLEMENTARY INFORMATION:

Background

For the past 25 years, NMFS has mandated reporting of catch, landings, and trip information through vessel trip reports (VTRs). Between 1992 and 1996, NMFS implemented this requirement for most vessels holding Federal fishing permits in Northeast Atlantic fisheries. In 2004, mandatory electronic reporting by federally permitted dealers was implemented for almost all federally-managed species. Requirements for weekly submissions of VTRs were implemented in 2010 for fisheries under catch shares, with weekly reporting later expanded to herring, mackerel, and surf clam/ocean quahog IFQ fisheries. In July 2011, the NMFS Greater Atlantic Regional Fisheries Office approved the use of electronic reporting of VTRs on a limited and voluntary basis for a segment of the groundfish fleet, and, in 2013, NMFS made electronic vessel trip reports (eVTRs) available as an alternative to submitting handwritten hardcopies for all Mid-Atlantic and New England Fishery Management Council fishery management plans (FMPs).

Owners and operators of vessels possessing permits for fisheries managed by Mid-Atlantic Fishery Management Council (MAFMC) FMPs are required to submit a VTR for every commercial, party, or charter trip taken, regardless of where they fish (state or Federal waters) or what they catch. MAFMC-managed species that include a for-hire VTR requirement include black sea bass, bluefish, scup, summer flounder, tilefish, Atlantic mackerel, squid, and butterfish.

Current regulations require vessel owners or operators with permits for MAFMC-managed species to submit VTRs monthly to NMFS's Greater Atlantic Regional Fisheries Office (GARFO) by the 15th day of the month following the month in which the trip occurred. The Atlantic Mackerel, Squid, and Butterfish FMP requires weekly VTR reporting. If a trip encompasses multiple NMFS statistical areas, a separate VTR must be submitted for each statistical area where fishing activity takes place. A separate VTR is also required for each reporting period. If a vessel does not land any fish on a trip, all trip information must be completed and “No Catch” entered in as the species code name. A VTR is required regardless of where fishing occurs, meaning that a vessel subject to these requirements in the Greater Atlantic must report even if they fish in the Southeast or any other region (does not apply to vessels holding only an American lobster permit). Since VTRs are in addition to any other reports which may be required by other Regions or plans, multiple reports may be required. VTRs, and any records upon which the reports were based, must be kept on board the vessel for at least one year and retained by the owner/operator for a total of three years after the date of the last entry on the report.

Proposed Measure

The Omnibus eVTR Framework would require charter and party vessels that hold a permit for species managed by MAFMC FMPs, while on a trip carrying passengers for hire, to submit VTRs by electronic means. These vessels would also be required to submit the eVTRs within 48 hours following the completion of a fishing trip. Federally permitted vessel owners and operators on commercial fishing trips will maintain the option to submit VTRs through hardcopy by mail or through electronic means.

Classification

Pursuant to section 304(b)(1)(A) of the Magnuson-Stevens Fishery Conservation and Management Act (Magnuson-Stevens Act), the NMFS Assistant Administrator has determined that this proposed rule is consistent with the Atlantic Mackerel, Squid, and Butterfish FMP; the Bluefish FMP; the Summer Flounder, Scup, and Black Sea Bass FMP; the Tilefish FMP; other provisions of the Magnuson-Stevens Act; and other applicable law, subject to further consideration after public comment.

This proposed rule has been determined to be not significant for purposes of Executive Order 12866.

The proposed action contains collection-of-information requirements subject to review and approval by the Office of management and Budget (OMB) under the Paperwork Reduction Act (PRA). This requirement has been submitted to OMB for approval under Control Number 0648-0212. Public reporting burden for the new eVTR requirement is estimated to average 3 minutes per response, including the time for reviewing instructions, searching existing data sources, gathering and maintaining the data needed, and completing and reviewing the collection information.

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to the Regional Administrator (see ADDRESSES), and email to OIRA_Submission@omb.eop.gov, or fax to (202) 395-5806.

Notwithstanding any other provisions of the law, no person is required to, nor shall any person be subject to a penalty for failure to comply with, a collection of information subject to the requirements of the PRA, unless that collection of information displays a currently valid OMB Control Number. All currently approved NOAA collections of information may be viewed at: http://www.cio.noaa.gov/services_programs/prasubs.html.

The Chief Counsel for Regulation of the Department of Commerce certified to the Chief Counsel for Advocacy of the Small Business Administration that this proposed rule, if adopted, would not have a significant economic impact on a substantial number of small entities.

Vessels that hold charter or party (for-hire) Federal permits for species managed under Mid-Atlantic Council FMPs were identified as business entities affected by this action. Any entity with combined annual fishery landing receipts less than $7.5 million for for-hire entities and $11 million for commercial entities is considered a small business. In 2015, 869 for-hire permits were owned by 785 entities. Of these entities, 171 were categorized as commercial fishing entities, 394 were categorized as for-hire entities, and 220 had no revenue in 2015. All of the 785 entities with Mid-Atlantic charter or party permits are classified as small businesses based on their revenue.

Complying with the proposed eVTR requirements can be accomplished for no cost with only a personal computer (or tablet) and internet connection. The ubiquitous nature of computers and internet availability in private homes and businesses, as well as free access to both in most public libraries and other locations, provides a free or minimal cost means for permit holders to submit eVTRs. Therefore, there is little to no direct negative economic impact to permit holders. Although this low-cost option is available, for-hire captains may voluntarily choose a different reporting mechanism, additional services, or upgraded hardware options that would increase their costs to varying degrees, but those would be voluntary and not a direct result of the proposed eVTR submission requirements. Because the proposed action is not expected to have a significant economic impact on a substantial number of small entities, an initial regulatory flexibility analysis is not required and none has been prepared.

List of Subjects in 50 CFR Part 648

Fisheries, Fishing, Recordkeeping and reporting requirements.

Dated: May 18, 2017.
Alan D. Risenhoover,
Acting Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.7, paragraphs (b)(1)(iii) and (f)(2)(iii) are added to read as follows:

§ 648.7 Recordkeeping and reporting requirements.

* * * * *

(b) * * *

(1) * * *

(iii) Charter/Party vessel permit owners and operators. The owner or operator of any fishing vessel that holds a Federal charter/party (for-hire) permit to fish for Atlantic bluefish, black sea bass, scup, summer flounder, tilefish, Atlantic mackerel, squid, and/or butterfish, when on a trip carrying passengers for hire, must submit the required Vessel Trip Report by electronic means. The report must contain all applicable information outlined in paragraph (b)(1)(i) of this section.

* * * * *

(f) * * *

(2) * * *

(iii) Charter/Party vessel electronic log reports, required by paragraph (b)(1)(iii) of this section, must be submitted within 48 hours after entering port at the conclusion of a trip.

* * * * *

[FR Doc. 2017-10591 Filed 5-23-17; 8:45 am]

BILLING CODE 3510-22-P